DEPARTMENT OF ENERGY

Federal Energy Regulatory Commission

[Docket No. EL14-71-000]

Black Hills Power, Inc.; Notice of Institution of Section 206 Proceeding and Refund Effective Date

On July 17, 2014, the Commission issued an order in Docket No. EL14-71-000, pursuant to section 206 of the Federal Power Act (FPA), 16 U.S.C. 824e (2012), instituting an investigation into the justness and reasonableness of the formula rate protocols of Black Hills Power, Inc., as joint administrator, under the Joint Open Access Transmission Tariff of Black Hills, Basin Electric Power Cooperative, and Powder River Energy Corporation. Black Hills Power, Inc., 148 FERC ¶ 61,035 (2014).

The refund effective date in Docket No. EL14-71-000, established pursuant to section 206(b) of the FPA, will be the date of publication of this notice in the Federal Register.

Dated: July 17, 2014.
Nathaniel J. Davis, Sr.,
Deputy Secretary.

[FR Doc. 2014-17298 Filed 7-22-14; 8:45 am]

BILLING CODE 6717-01-P